OFFICE OF PERSONNEL MANAGEMENT

Comment Request for Review of a Revised Information Collection: Organizational Surveys

AGENCY: Office of Personnel Management.

ACTION: 30-Day notice and request for comments.

SUMMARY: The Office of Personnel Management (OPM) intends to submit to the Office of Management and Budget (OMB) a request for review of a currently approved collection, Organizational Surveys. OPM is requesting approval of Organizational Assessment Surveys, Supplemental OPM Federal Employee Viewpoint Surveys, Exit Surveys, New Leaders Onboarding Assessments, New Employee Surveys, Training Needs Assessment Surveys, and custom Program Evaluation surveys as a part of this collection. Approval of the organizational surveys is necessary to collect information on Federal agency and program performance, climate, engagement, and leadership effectiveness.

DATES: Comments are encouraged and will be accepted until June 28, 2021.

ADDRESSES: Interested persons are invited to submit written comments on the proposed information collection to the Office of Information and Regulatory Affairs, Office of Management and Budget, 725 17th Street NW, Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management and Budget, 725 17th Street NW, Washington, DC 20503, Attention: Desk Officer for the Office of Personnel Management or sent via electronic mail to oira_submission@omb.eop.gov or faxed to (202) 395-6974.

SUPPLEMENTARY INFORMATION: As required by the Paperwork Reduction Act of 1995, (Pub. L. 104-13, 44 U.S.C. chapter 35) as amended by the Clinger-Cohen Act (Pub. L. 104-106), OPM is soliciting comments for this collection. The information collection was previously published in the Federal Register on April 26, 2021 at 86 FRN 11803 allowing for a 60-day public comment period. No comments were received for this information collection (OMB No. 3206-0252). The purpose of this notice is to allow an additional 30-days for public comments. Comments are particularly invited on:

1. Whether the proposed collection of information is necessary for the proper performance of the functions of the agency, including whether the information will have practical utility;

2. Whether our estimate of the public burden of this collection is accurate, and based on valid assumptions and methodology; and

3. Ways in which we can minimize the burden of the collection of information on those who are to respond, through the use of the appropriate technological collection techniques or other forms of information technology.

OPM's Human Resources Strategy and Evaluation Solutions performs assessment and related consultation activities for Federal agencies on a reimbursable basis. The assessments are authorized by various statutes and regulations: Section 4702 of Title 5, U.S.C; E.O. 12862; E.O. 13715; Section 1128 of the National Defense Authorization Act for Fiscal Year 2004, Public Law 108-136; 5 U.S.C. 1101 note, 1103(a)(5), 1104, 1302, 3301, 3302, 4702, 7701 note; E.O. 13197, 66 FR 7853, 3 CFR 748 (2002); E.O. 10577, 12 FR 1259, 3 CFR, 1954-1958 Comp., p. 218; and Section 4703 of Title 5, United States Code.

This collection request includes surveys we currently use and plan to use during the next three years to measure agency performance, climate, engagement, and leadership effectiveness. OMB No. 3206-0252 covers a broad range of surveys all focused on improving organizational performance. Non-Federal respondents will almost never receive more than one of these surveys. All of these surveys consist of Likert-type, mark-one, and mark-all-that-apply items, and may include a small number of open-ended comment items. Organizational Assessment Surveys (OAS) typically include a customized set of 50-150 standard items pulled from an item bank of nearly 500 items and a small set of 5-10 custom items developed to meet the agency's specific needs. OPM's Human Resources Strategy and Evaluation Solutions administers a supplemental OPM Federal Employee Viewpoint Survey (Supplemental OPM FEVS), a type of organizational assessment survey, to employee groups not covered by the official OPM FEVS administration. Exit Surveys consist of approximately 100 items that assess reasons why employees decided to leave their organization. Customization is possible. The New Leaders Onboarding Assessment (NLOA) is a combined assessment consisting of approximately 100 items, including items measuring organizational climate, employee engagement, and leadership. New Employee Surveys consist of approximately 100 items that assess satisfaction with the hiring, orientation, and socialization of new employees. Training Needs Assessment Surveys consist of approximately 100 items that assess an agency's climate for training and employees' training preferences. Program Evaluation surveys evaluate the effectiveness of government initiatives, programs, and offices. Program Evaluation surveys are always customized to assess specific program elements. Program Evaluation surveys may contain from 20 to 200 items, with an average of approximately 100 items. The surveys included under OMB No. 3206-0252 are almost always administered electronically.

Analysis

Agency: Human Resources Strategy and Evaluation Solutions, Office of Personnel Management.

Title: Organizational Surveys.

OMB: 3206-0252.

Frequency: On occasion.

Affected Public: Government contractors and individuals.

Number of Respondents: approximately 78,780.

Estimated Time per Respondent: 10.62 minutes.

Total Burden Hours: 13,944 hours.

Office of Personnel Management.
Alexys Stanley,
Director, Office of Privacy and Information Management.

[FR Doc. 2021-11177 Filed 5-26-21; 8:45 am]

BILLING CODE 6325-43-P